DEPARTMENT OF THE INTERIOR

Fish and Wildlife Service

[FWS-HQ-MB-2019-N011; FXGO1664091HCC0-FF09D00000-189]

Neotropical Migratory Bird Conservation Act Advisory Group; Call for Nominations

AGENCY: Fish and Wildlife Service, Interior.

ACTION: Call for nominations.

SUMMARY: The Secretary of the Interior seeks nominations for individuals to be considered to fill one vacancy to serve as a member of the Neotropical Migratory Bird Conservation Act Advisory Group. The Advisory Group operates under statutory procedures established in the Neotropical Migratory Bird Conservation Act, which promotes long-term conservation of neotropical migratory birds and their habitats.

DATES: Written nominations must be postmarked by April 29, 2019.

ADDRESSES: Please address and submit your nomination letters via U.S. mail or hand delivery to Mr. Jerome Ford, Assistant Director—Migratory Birds; Neotropical Migratory Bird Conservation Act Advisory Group; U.S. Fish and Wildlife Service; 5275 Leesburg Pike, MS:MB; Falls Church, VA 22041-3803.

FOR FURTHER INFORMATION CONTACT: Kari Duncan by email (preferred) at kari_duncan@fws.gov, by telephone at 703-358-1784, by U.S. mail at the address in ADDRESSES, or via the Federal Relay Service at 1-800-877-8339.

SUPPLEMENTARY INFORMATION:

Background

The Neotropical Migratory Bird Conservation Act (NMBCA or Act; 16 U.S.C. 6101 et seq.), promotes long-term conservation of neotropical migratory birds and their habitats through a competitive grants program by promoting partnerships and local conservation efforts, and achieving habitat protection in 36 countries. The goals of NMBCA include perpetuating healthy bird populations, providing financial resources for bird conservation, and fostering international cooperation. Because the greatest conservation need is south of the U.S. border, the Act requires that at least 75 percent of NMBCA funding supports projects outside the United States.

Under the Act (16 U.S.C. 6106), the Secretary may convene an advisory group consisting of individuals representing public and private organizations actively involved in the conservation of neotropical migratory birds. Accordingly, since 2006, an advisory group has assisted in administration of the NMBCA.

Advisory Group Duties

The NMBCA Advisory Group provides advice to the Director of the U.S. Fish and Wildlife Service on progress toward program goals and on neotropical migratory bird conservation priorities, conducts outreach to partners to encourage collaboration and cooperative planning, communicates the need for program support, and contributes to a long-term strategic vision. Under statutory procedures established in the Act, the Advisory Group typically meets once a year to discuss the strategic direction and management of the NMBCA program.

Advisory Group Membership

As a whole, the Advisory Group shall have expertise in migratory bird conservation and management throughout the Western Hemisphere. Currently, the Advisory Group includes Directors of State fish and wildlife agencies representing the four migratory bird flyways, the Director of the U.S. Fish and Wildlife Service, the Secretary of the Board of the National Fish and Wildlife Foundation, and nonprofit organizations engaged in migratory bird conservation activities. In the event that an appointment lapses, members continue to serve until reappointed or replaced.

Nomination Method and Eligibility

The Secretary seeks nominations for individuals who have expertise in migratory bird conservation and management throughout the Western Hemisphere to be considered to fill one vacancy to serve as a member of the Advisory Group. The member will be appointed to a three-year term that will expire on March 31, 2022. Nominations should include a resume that provides contact information and a description of the nominee's qualifications that would enable the Department of the Interior to make an informed decision regarding the candidate's suitability to serve on the Advisory Group.

Dated: April 2, 2019.
James W. Kurth,
Deputy Director, U.S. Fish and Wildlife Service.

[FR Doc. 2019-06828 Filed 4-5-19; 8:45 am]

BILLING CODE 4333-15-P